FEDERAL MARITIME COMMISSION

Ocean Transportation Intermediary License Revocations

The Federal Maritime Commission hereby gives notice that the following Ocean Transportation Intermediary licenses have been revoked pursuant to section 19 of the Shipping Act of 1984 (46 U.S.C. Chapter 409) and the regulations of the Commission pertaining to the licensing of Ocean Transportation Intermediaries, 46 CFR Part 515, effective on the corresponding date shown below:

License Number: 283F.

Name: Saima Avandero USA, Inc.

Address: 550 Broad Street, Suite 1001, Newark, NJ 07102.

Date Revoked: July 29, 2010.

Reason: Failed to maintain a valid bond.

License Number: 0641F.

Name: Wilmoth Fast Forwarding, Inc.

Address: 13302 Michaelangelo Drive, Bakersfield, CA 93314.

Date Revoked: July 24, 2010.

Reason: Failed to maintain a valid bond.

License Number: 4002F.

Name: Ocean Trade International, Inc.

Address: 16517 SW. 52nd Street, Miami, FL 33185.

Date Revoked: July 22, 2010.

Reason: Failed to maintain a valid bond.

License Number: 000769NF.

Name: ABX Logistics (USA) Inc.

Address: 7651 Esters Blvd., Suite 210, Irving, TX 75063.

Date Revoked: July 29, 2010.

Reason: Failed to maintain valid bonds.

License Number: 14960N.

Name: Samyoung America, Inc. dba S.Y. Line.

Address: 1220 Broadway, Suite 700, New York, NY 10001.

Date Revoked: July 29, 2010.

Reason: Failed to maintain a valid bond.

License Number: 018613N.

Name: Caribbean Cargo & Package Services, Inc.

Address: 147-46 176th Street, Jamaica, NY 11434.

Date Revoked: March 4, 2010.

Reason: Failed to maintain a valid bond.

License Number: 018673N.

Name: Global Express Shipping and Delivery Company, Inc.

Address: 433 Red Oak Lane, Lawrenceville, GA 30045.

Date Revoked: July 29, 2010.

Reason: Failed to maintain a valid bond.

License Number: 020063N.

Name: Business Solutions Partner, Inc.

Address: 12493 Cliff Edge Drive, Herndon, VA 20170.

Date Revoked: July 31, 2010.

Reason: Failed to maintain a valid bond.

License Number: 020747N.

Name: Prime Logistics Int'l, Inc.

Address: 8611 NW. 72nd Street, Miami, FL 33166.

Date Revoked: July 25, 2010.

Reason: Failed to maintain a valid bond.

License Number: 020974F.

Name: Anthony Okafor dba TB Worldwide Shipping Services.

Address: 4740 Gretna Street, Dallas, TX 75207.

Date Revoked: July 17, 2010.

Reason: Failed to maintain a valid bond.

License Number: 021137NF.

Name: Fastrans Logistics, Inc.

Address: 7069 North Hanley Road, Hazelwood, MO 63042.

Date Revoked: July 28, 2010.

Reason: Failed to maintain valid bonds.

License Number: 022169F.

Name: Airland Logistics Inc.

Address: 11811 N. Freeway, Suite 547, Houston, TX 77060.

Date Revoked: July 29, 2010.

Reason: Failed to maintain a valid bond.

License Number: 021184NF.

Name: Hyde Ocean Services, Inc.

Address: 9595 Valparaiso Court, Indianapolis, IN 46268.

Date Revoked: July 29, 2010.

Reason: Failed to maintain valid bonds.

Sandra L. Kusumoto,
Director, Bureau of Certification and Licensing.

[FR Doc. 2010-20485 Filed 8-17-10; 8:45 am]

BILLING CODE P